DEPARTMENT OF THE INTERIOR

National Park Service

General Management Plan and Environmental Impact Statement for Lincoln Home National Historic Site

AGENCY: National Park Service, Interior.

ACTION: Notice of Availability.

SUMMARY: The National Park Service announces the availability of the Abbreviated Final General Management Plan and Environmental Impact Statement for Lincoln Home National Historic Site, Illinois.

DATES: The Abbreviated Final General Management Plan and Environmental Impact Statement (GMP/EIS) will remain available for public review for 30 days following the publishing of the notice of its availability in the “Federal Register” by the U.S. Environmental Protection Agency.

ADDRESSES: Send requests for copies to the Superintendent, Lincoln Home National Historic Site, 413 South Eighth Street, Springfield, IL 62701-1905.

You may also view the document via the Internet through the NPS Planning, Environment, and Public Comment (PEPC) Web site (http://parkplanning.nps.gov); click on the link to Lincoln Home National Historic Site.

SUPPLEMENTARY INFORMATION: We, the National Park Service, prepared a draft GMP/EIS for the park pursuant to section 102(2)(C) of the National Environmental Policy Act of 1969. The draft was made available for public review for 60 days (June-August 2010) during which time we distributed over 1020 summaries of the draft GMP/EIS. In addition to the distribution, the draft GMP/EIS was also made available at the park, on the Internet, and at area libraries. A total of 39 comments were received; 35 at the public meetings, and 4 in writing. A total of 45 participants attended 4 public meetings. The consensus from the public comment period was that we are pursuing the correct path for the park in Alternative 2, the preferred alternative. Comments from individuals and public agencies did not require us to add other alternatives, significantly alter existing alternatives, or make changes to the impact analysis of the effects of any alternative. As a result of the lack of substantive comments, we are issuing an abbreviated final GMP/EIS.

FOR FURTHER INFORMATION CONTACT: The Superintendent, Lincoln Home National Historic Site, 413 South Eighth Street, Springfield, IL, 62701-1905, telephone (217) 391-3222.

Dated: November 23, 2011.
Michael T. Reynolds,
Regional Director, Midwest Region.

[FR Doc. 2011-33620 Filed 12-30-11; 8:45 am]

BILLING CODE 4312-AT-P